DEPARTMENT OF STATE

[Public Notice: 11409]

Defense Trade Advisory Group; Notice of Open Meeting

The Defense Trade Advisory Group (DTAG) will meet in open session from 1:00 p.m. until 5:00 p.m. on Thursday, May 20, 2021. Based on federal and state guidance in response to the Covid-19 pandemic, the meeting will be held virtually. The virtual forum will open at 12:00 p.m. The membership of this advisory committee consists of private sector defense trade representatives, appointed by the Assistant Secretary of State for Political-Military Affairs, who advise the Department on policies, regulations, and technical issues affecting defense trade. The DTAG was established as an advisory committee under the authority of 22 U.S.C. Sections 2651a and 2656 and the Federal Advisory Committee Act, 5 U.S.C. App. The purpose of the meeting will be to discuss current defense trade issues and topics for further study. The following agenda topics will be discussed, and final reports presented: (1) Provide recommendations for revisions to the International Traffic in Arms Regulations (ITAR) § 123.17 with regard to exemptions for Personal Protective Gear. (2) Incorporate relevant legislative and treaty requirements into its analysis on an alternative reporting approach (related to Part 130 Reporting), paying particular attention to which reporting requirements mandate DDTC to report contributions, gifts, commissions, or fees offered; versus paid, or both. (3) Develop comprehensive ITAR citations of the various compliance requirements that could be used to assist companies and universities to develop robust ITAR compliance programs.

The meeting will be held virtually via WebEx. There will be one WebEx invitation for each attendee, and only the invited attendee should use the invitation. In addition, each attendee should access the virtual meeting from a private location. Please let us know if you need any of the following accommodations: Live captions, digital/text versions of webinar materials, or other (please specify).

Members of the public may attend this virtual session and may submit questions by email following the formal DTAG presentation. Members of the public may also submit a brief statement (less than three pages) to the committee in writing for inclusion in the public minutes of the meeting. Each member of the public that wishes to attend this session must provide: Name and contact information, including an email address and phone number, and any request for reasonable accommodation to the DTAG Designated Federal Officer (DFO), Deputy Assistant Secretary Michael Miller, via email at DTAG@state.gov by COB Tuesday, May 18, 2021.

FOR FURTHER INFORMATION CONTACT: Ms. Barbara Eisenbeiss, PM/DDTC, SA-1, 12th Floor, Directorate of Defense Trade Controls, Bureau of Political-Military Affairs, U.S. Department of State, Washington, DC 20522-0112; telephone (202) 663-2835 or email DTAG@state.gov.

Michael F. Miller,
Designated Federal Officer, Defense Trade Advisory Group, U.S. Department of State.

[FR Doc. 2021-07731 Filed 4-14-21; 8:45 am]

BILLING CODE 4710-25-P